DEPARTMENT OF LABOR

Employment and Training Administration

Investigations Regarding Certifications of Eligibility to Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than January 2, 2001.

Interested persons are invited to submit written comments regarding the subject matter of the investigations to the Director, Division of Trade Adjustment Assistance, at the address shown below, not later than January 2, 2001.

The petitions filed in this case are available for inspection at the Office of the Director, Division of Trade Adjustment Assistance, Employment and Training Administration, U.S. Department of Labor, Room C-5311, 200 Constitution Avenue, NW., Washington, DC 20210.

Signed at Washington, D.C. this 4th day of December, 2000.
Edward A. Tomchick,
Director, Division of Trade Adjustment Assistance.

APPENDIX
[Petitions instituted on 12/04/2000]
TA-W | Subject firm (petitioners) | Location | Date of petition | Product(s)
38,371 | Sasib (USWA) | DePere, WI | 11/14/2000 | Packaging Machines.
38,372 | Alcoa Lebanon Works (Wkrs) | Lebanon, PA | 01/15/2000 | Rolled Aluminum.
38,373 | Kirkwood, Inc. (Wkrs) | Cleveland, OH | 01/07/2000 | Carbon and Copper Brushes.
38,374 | Owens Brockway (GMP) | Lakeland, FL | 11/16/2000 | Glass Containers.
38,375 | CHF Industrial, Inc. (Wkrs) | Kaufman, TX | 11/16/2000 | Curtains.
38,376 | Galey and Lord (Co.) | Shannon, GA | 11/17/2000 | Yarn Spinning.
38,377 | Dearborn Brass (GMPPA) | Tyler, PA | 11/16/2000 | Bathroom and Kitchen Plumbing Fixtures.
38,378 | Honeywell (Wkrs) | Rocky Mount, NC | 11/02/2000 | Fuel Controls for Aircraft.
38,379 | Trumark Industries (Co.) | Spokane, WA | 11/08/2000 | Fingerjoint Studs.
38,380 | Rexam (Wkrs) | Mt. Holly, NJ | 11/16/2000 | Medical Pouches.
38,381 | Karmazin Products (Co.) | Wyandotte, MI | 11/17/2000 | Hat Exchangers.
38,382 | Cherokee Finishing Co. (Co.) | Gaffney, SC | 11/08/2000 | Printing Fabric for Home Furnishings.
38,383 | Burruss Company (Wkrs) | Galax, VA | 11/02/2000 | Hardwood Flooring.
38,384 | Thompson Steel Co. (Co.) | Baltimore, MD | 11/22/2000 | Steel Products.
38,385 | Findlay Industries (UNITE) | Morrison, TN | 11/22/2000 | Automobile Seat Covers.
38,386 | Unocal (Co.) | Sugar Land, TX | 11/16/2000 | Crude Oil, Natural Gas.
38,387 | Indigio Conceptes (Wkrs) | Vernon, CA | 01/21/2000 | Pants—Jeans.
38,388 | Corbin Russwin, Inc. (IAMAW) | Berlin, CT | 11/16/2000 | Electronic Hotel Door Locks.
38,389 | Best Manufacturing (Wkrs) | Woodbury, GA | 11/20/2000 | Cloth Table Linens.
38,390 | Eaton Corporation (Co.) | Carol Stream, IL | 11/20/2000 | Hydraulic Valves.
38,391 | Foxboro Company (Co.) | Foxboro, MA | 11/17/2000 | Printed Circuit Board.
38,392 | Hagale Industries (Wkrs) | Ava, MO | 10/27/2000 | Sportswear.
38,393 | Tyco Electronics (Co.) | Chesterfield, MI | 11/22/2000 | Electronic Connectors.
38,394 | Velvac, Inc. (Co.) | New Berlin, WI | 11/24/2000 | Heavy Duty Truck Parts.

[FR Doc. 00-32584 Filed 12-20-00; 8:45 am]

BILLING CODE 4510-30-M